DEPARTMENT OF COMMERCE

National Oceanic and Atmospheric Administration

50 CFR Part 300

[I.D. 121800E]

Pacific Tuna Fisheries; Public Hearing

AGENCY: National Marine Fisheries Service (NMFS), National Oceanic and Atmospheric Administration (NOAA), Commerce.

ACTION: Notice of public hearing.

SUMMARY: On March 30, 2001, NMFS published a proposed rule under the authority of the Tuna Conventions Act of 1949 (Act). NMFS indicated in the proposed rule that a public hearing would be held to obtain public comment on the proposed rule. This notice announces the place, date, and time of the hearing. In addition to holding the hearing, NMFS is accepting written comments on the proposed rule.

DATES: The public hearing will be held on April 27, 2001, at 9 a.m. Written comments will be accepted through April 30, 2001.

ADDRESSES: The public hearing will be held at the Embassy Suites Hotel, 601 Pacific Highway, San Diego, CA 92101; telephone: 619-239-2400; fax: 619-239-1520. Written comments should be sent to Svein Fougner, Southwest Region, NMFS, 501 W. Ocean Boulevard, Suite 4200, Long Beach, CA 90802, or faxed to 562-980-4047. Comments will not be accepted if submitted via e-mail or the Internet.

FOR FURTHER INFORMATION CONTACT: Svein Fougner, (562) 980-4040.

SUPPLEMENTARY INFORMATION: On March 30, 2001, NMFS published a proposed rule (66 FR 17387) to implement two recommendations that were agreed to by the Inter-American Tropical Tuna Commission (IATTC) and approved by the Department of State in accordance with the Act. The first recommendation would establish measures implementing a 1-year pilot program to reduce bycatch in the tuna purse seine fisheries conducted by vessels from members of the IATTC. The second would require commercial fishermen who fish in the Convention Area (set forth at 50 CFR part 300, subpart C) to report certain information about their vessels for a regional vessel register being developed by the IATTC. Under the Act, a public hearing must be held before implementing IATTC recommendations.

Special Accommodations

Requests for sign language interpretation or other auxiliary aids should be directed to Svein Fougner (see ADDRESSES), 562-980-4040 (voice) or 562-980-4047 (facsimile), at least 5 days prior to the hearing date.

Authority: 16 U.S.C. 1801 et seq.

Dated: April 13, 2001.
Bruce C. Morehead,
Acting Director, Office of Sustainable Fisheries, National Marine Fisheries Service.

[FR Doc. 01-9732 Filed 4-18-01; 8:45 am]

BILLING CODE 3510-22 -S